DEPARTMENT OF HOMELAND SECURITY

[Docket No. USCBP-2006-0023]

Departmental Advisory Committee on Commercial Operations of Customs and Border Protection and Related Functions (COAC)

AGENCY: Customs and Border Protection, DHS.

ACTION: Notice of meeting.

SUMMARY: The Departmental Advisory Committee on Commercial Operations of Customs and Border Protection and Related Functions (COAC) will meet in open session.

DATES: Tuesday, May 16, 2006, 9 a.m. to 1 p.m.

ADDRESSES: The meeting will be held in the Horizon Ballroom of the Ronald Reagan Building, 1300 Pennsylvania Avenue, NW., Washington, DC.

If you desire to submit comments, they must be submitted by May 15, 2006. Comments must be identified by USCBP-2006-0023 and may be submitted by one of the following methods:

• Federal eRulemaking Portal: http://www.regulations.gov. Follow the instructions for submitting comments.

• E-mail: traderelations@dhs.gov Include docket number in the subject line of the message.

• Mail: Ms. Wanda Tate, Office of Trade Relations, Customs and Border Protection, Department of Homeland Security, Washington, DC 20229.

• Facsimile: 202-344-1969.

Instructions: All submissions received must include the words “Department of Homeland Security” and the docket number for this action. Comments received will be posted without alteration at www.regulations.gov, including any personal information provided.

Docket: For access to the docket to read background documents or comments received by the COAC, go to http://www.regulations.gov.

FOR FURTHER INFORMATION CONTACT: Ms. Wanda Tate, Office of Trade Relations, Customs and Border Protection, Department of Homeland Security, Washington, DC 20229, telephone 202-344-1440; facsimile 202-344-1969.

SUPPLEMENTARY INFORMATION: The sixth meeting of the ninth term of the Departmental Advisory Committee on Commercial Operations of Customs and Border Protection and Related Functions (COAC) will be held at the date, time and location specified above. This notice also announces the expected agenda for that meeting below.

This meeting is open to the public; however, participation in COAC deliberations is limited to COAC members, Homeland Security and Treasury Department officials, and persons invited to attend the meeting for special presentations. Since seating is limited, all persons attending this meeting should provide notice, preferably by close of business Thursday, May 11, 2006, to Ms. Wanda Tate, Office of Trade Relations, Customs and Border Protection, Department of Homeland Security, Washington, DC 20229, telephone 202-344-1440; facsimile 202-344-1969.

For information on facilities or services for individuals with disabilities or to request special assistance at the meeting, contact Ms. Wanda Tate as soon as possible.

Draft Agenda

1. Introductory Remarks.

2. Container Security Issues.

3. WCO (World Customs Organization)/Implementation.

4. Update on HSPD-13/NMSAC (Homeland Security Presidential Directive-13 & National Maritime Security Advisory Committee).

5. Update on Security and Prosperity Partnership (SPP).

6. Security Subcommittee: C-TPAT (Customs-Trade Partnership Against Terrorism).

7. Green Lane Task Force.

8. Textiles & Apparel Entry Processing.

9. E-Manifest for Trucks.

10. ACE (Automated Commercial Environment)/ITDS (International Trade Data System).

11. Radiation Portal Monitoring.

12. Staffing: Import Specialists.

13. Pre-Entry Information.

14. New Action Items.

15. Adjourn.

Dated: April 26, 2006.
Stewart A. Baker,
Assistant Secretary, Office of Policy , United States Department of Homeland Security.

[FR Doc. E6-6541 Filed 4-28-06; 8:45 am]

BILLING CODE 9111-14-P